DEPARTMENT OF DEFENSE

Department of Navy

Notice of Availability of Government-Owned Inventions; Available for Licensing

AGENCY: Department of the Navy, DOD.

ACTION: Notice.

SUMMARY: The inventions listed below are assigned to the United States Government as represented by the Secretary of the Navy and are available for licensing by the Department of the Navy.

U.S. Patent Number 6,121,911 entitled “Data gathering circuit having reduced power consumption”, Navy Case Number 77551, Inventors Alloca et al, Issue date September 29, 2000. U.S. Patent Number 6,125,270 entitled “Verification system for transmitters and command tone generators”, Navy Case Number 78452, Inventor Prockup, Issue date September 26, 2000. U.S. Patent Number 6,450,449 entitled “Crashworthy seat”, Navy Case Number 79150, Inventors Podob et al, Issue date September 17, 2002. U.S. Patent Number 6,484,072 entitled “Embedded terrain awareness warning system for aircraft”, Navy Case Number 83144, Inventors Anderson et al, Issue date November 19, 2002. U.S. Patent Number 6,557,570 entitled “Portable apparatus for cleaning a conduit and method for cleaning a conduit”, Navy Case Number 82426, Inventors Gierbolini et al, Issue date May 06, 2003. U.S. Patent Number 6,590,377 entitled “Narrow band frequency detection circuit”, Navy Case Number 79123, Inventor Prockup, Issue date July 08, 2003. U.S. Patent Number 6,616,097 entitled “Reconfigurable reconnaissance pod system”, Navy Case Number 82920, Inventor Hilbert, Issue date September 09, 2003. U.S. Patent Number 6,621,836 entitled “Tunable multi-frequency vertical cavity surface emitting laser”, Navy Case Number 82243, Inventor Karwacki, Issue date September 16, 2003. U.S. Patent Number 6,659,963 entitled “Apparatus for obtaining temperature and humidity measurements”, Navy Case Number 82970, Inventors Kaufman et al, Issue date December 09, 2003. U.S. Patent Number 6,667,262 entitled “Self-lubricating ceramic composites”, Navy Case Number 74503, Inventors Agarwala et al, Issue date December 23, 2003. U.S. Patent Number 6,760,571 entitled “Automatic frequency deviation detection and correction apparatus”, Navy Case Number 79124, Inventor Prockup, Issue date July 06, 2004. Navy Case Number 76519 entitled “Method for reducing hazards”, Inventor Gill, U.S. Application Number 11/220,189 filed on September 01, 2005. Navy Case Number 85000 entitled “Just in time wiring information system”, Inventors Edwards et al, U.S. Application Number 11/251,535 filed on September 29, 2005. Navy Case Number 95904 entitled “Oleaginous corrosion resistant composition”, Inventors Arafat et al, Filed on October 27, 2005. Navy Case Number 96569 entitled “Method for fabrication of a polymeric, conductive optical transparency”, Inventors Coughlin et al, U.S. Application Number 11/251,539 filed on October 03, 2005. Navy Case Number 96766 entitled “Personal portable environmental control system”, Inventor Askew, U.S. Application Number 11/250,710 filed on October 03, 2005. U.S. Patent Number 5,540,218 entitled “Respiratory system particularly suited for aircrew use”, Navy Case Number 76043, Inventors Jones et al, Issue date July 30, 1996. U.S. Patent Number 5,916,372 entitled “Non-solvent, general use exterior aircraft cleaner”, Navy Case Number 79444, Inventors Bevilacqua et al, Issue date June 29, 1999.

ADDRESSES: Request for data and inventor interviews should be director to Mr. Paul Fritz, Naval Air Warfare Center Aircraft Division, Business Development Office, Office of Research and Technology Applications, Building 304; Room 107, 22541 Millstone Road, Patuxent River, MD 20670, 301-342-5586 or E-Mail Paul.Fritz@navy.mil.

DATES: Request for data, samples, and inventor interviews should be made prior to 30 January 2006.

FOR FUTHER INFORMATION CONTACT: Mr. Hans Kohler, Office of Research and Technology Applications, Building 150/2, Naval Air Warfare Center Aircraft Div, Lakehurst, NJ 08733-5060, 732-323-2948, Hans.Kohler@navy.mil or Mr. Paul Fritz, Office of Research and Technology Applications, Building 304; Room 107, Naval Air Warfare Center Aircraft Div, 22541 Millstone Rd, Patuxent River, MD 20670, 301-342-5586, Paul.Fritz@navy.mil.

SUPPLEMENTARY INFORMATION: The U.S. Navy intends to move expeditiously to license these inventions. All licensing application packages and commercialization plans must be returned to Naval Air Warfare Center Aircraft Division, Business Development Office, Office of Research and Technology Applications, Building 304; Room 107, 22541 Millstone Road, Patuxent River, MD 20670.

The Navy, in its decisions concerning the granting of licenses, will give special consideration to existing licensee's, small business firms, and consortia involving small business firms. The Navy intends to ensure that its licensed inventions are broadly commercialized throughout the United States.

PCT application may be filed for each of the patents as noted above. The Navy intends that licensees interested in a license in territories outside of the United States will assume foreign prosecution and pay the cost of such prosecution.

(Authority: 35 U.S.C. 207, 37 CFR part 404.)

Dated: December 2, 2005.
Eric Mcdonald,
Lieutenant Commander, Judge Advocate General's Corps, U.S. Navy, Federal Register Liaison Officer.

[FR Doc. E5-7042 Filed 12-7-05; 8:45 am]

BILLING CODE 3810-FF-P